GENERAL SERVICES ADMINISTRATION

[OMB Control No. 3090-0014; Docket 2012-0001; Sequence 5]

Federal Supply Service; Information Collection; Standard Form (SF) 123, Transfer Order-Surplus Personal Property and Continuation Sheet

AGENCY: Federal Acquisition Service, (GSA).

ACTION: Notice of request for an extension to an existing OMB clearance.

SUMMARY: Under the provisions of the Paperwork Reduction Act, the Regulatory Secretariat will be submitting to the Office of Management and Budget (OMB) a request to review and approve an extension of a previously approved information collection requirement regarding Standard Form (SF) 123, transfer order-surplus personal property and continuation sheet.

Public comments are particularly invited on: Whether this collection of information is necessary and whether it will have practical utility; whether our estimate of the public burden of this collection of information is accurate, and based on valid assumptions and methodology; ways to enhance the quality, utility, and clarity of the information to be collected.

DATES: Submit comments on or before: May 1, 2012.

FOR FURTHER INFORMATION CONTACT: Joyce Spalding, Property Disposal Specialist, Federal Acquisition Service, at telephone (703) 605-2888 or via email to joyce.spalding@gsa.gov.

ADDRESSES: Submit comments identified by Information Collection 3090-0014, Standard Form (SF) 123, Transfer Order—Surplus Personal Property and Continuation Sheet, by any of the following methods:

• Regulations.gov: http://www.regulations.gov. Submit comments via the Federal eRulemaking portal by inputting “Information Collection 3090-0014, Standard Form (SF) 123, Transfer Order—Surplus Personal Property and Continuation Sheet” under the heading “Enter Keyword or ID” and selecting “Search”. Select the link “Submit a Comment” that corresponds with “Information Collection 3090-0014, Standard Form (SF) 123, Transfer Order—Surplus Personal Property and Continuation Sheet”. Follow the instructions provided at the “Submit a Comment” screen. Please include your name, company name (if any), and “Information Collection 3090-0014, Standard Form (SF) 123, Transfer Order—Surplus Personal Property and Continuation Sheet” on your attached document.

• Fax: 202-501-4067.

• Mail: General Services Administration, Regulatory Secretariat Division (MVCB), 1275 First Street NE., Washington, DC 20417. Attn: Hada Flowers/IC 3090-0014, Standard Form (SF) 123, Transfer Order—Surplus Personal Property and Continuation Sheet.

Instructions: Please submit comments only and cite Information Collection 3090-0014, Standard Form (SF) 123, Transfer Order—Surplus Personal Property and Continuation Sheet, in all correspondence related to this collection. All comments received will be posted without change to http://www.regulations.gov, including any personal and/or business confidential information provided.

SUPPLEMENTARY INFORMATION:

A. Purpose

Standard Form (SF) 123, Transfer Order—Surplus Personal Property and Continuation Sheet is used by public agencies, nonprofit educational or public health activities, programs for the elderly, service educational activities, and public airports to apply for donation of Federal surplus personal property. The SF 123 serves as the transfer instrument and includes item descriptions, transportation instructions, nondiscrimination assurances, and approval signatures.

B. Annual Reporting Burden

Respondents: 36,367.

Responses per Respondent: 1.

Hours per Response: 0.01783.

Total Burden Hours: 648.

Obtaining Copies of Proposals: Requesters may obtain a copy of the information collection documents from the General Services Administration, Regulatory Secretariat Division (MVCB), 1275 First Street NE., Washington, DC 20417, telephone (202) 501-4755. Please cite OMB Control No. 3090-0014, Standard Form (SF) 123, Transfer Order—Surplus Personal Property and Continuation Sheet, in all correspondence.

Dated: February 24, 2012.
Casey Coleman,
Chief Information Officer.

[FR Doc. 2012-5092 Filed 3-1-12; 8:45 am]

BILLING CODE 6820-34-P